OFFICE OF PERSONNEL MANAGEMENT

5 CFR Part 532

RIN 3206-AN17

Prevailing Rate Systems; Special Wage Schedules for U.S. Army Corps of Engineers Flood Control Employees of the Vicksburg District in Mississippi

AGENCY: U.S. Office of Personnel Management.

ACTION: Proposed rule with request for comments.

SUMMARY: The U.S. Office of Personnel Management (OPM) is issuing a proposed rule to establish special wage schedules specific to nonsupervisory, leader, and supervisory wage employees of the U.S. Army Corps of Engineers (USACE) who work at flood control dams (also known as reservoir projects) at the Vicksburg District of the Mississippi Valley Division. The four lakes of the District are currently in two separate wage areas. The Department of Defense (DOD) would be assigned lead agency responsibility for establishing and issuing these special wage schedules. The special wage schedules would be established at the same time and with rates identical to the Memphis, TN, appropriated fund Federal Wage System (FWS) wage schedule.

DATES: We must receive comments on or before July 6, 2015.

ADDRESSES: You may submit comments, identified by “RIN 3206-AN17,” using any of the following methods:

Federal eRulemaking Portal: http://www.regulations.gov. Follow the instructions for submitting comments.

Mail: Brenda L. Roberts, Deputy Associate Director for Pay and Leave, Employee Services, U.S. Office of Personnel Management, Room 7H31, 1900 E Street NW., Washington, DC 20415-8200.

Email: pay-leave-policy@opm.gov.

FOR FURTHER INFORMATION CONTACT: Madeline Gonzalez, by telephone at (202) 606-2858 or by email at pay-leave-policy@opm.gov.

SUPPLEMENTARY INFORMATION: OPM is issuing a proposed rule to establish special wage schedules for USACE nonsupervisory, leader, and supervisory wage employees who work at flood control dams (also known as reservoir projects) and whose duty station is located at one of the lakes that comprise the Vicksburg District of the Mississippi Valley Division. DOD would be assigned lead agency responsibility for establishing and issuing these special wage schedules. The special wage schedules would be established at the same time and with rates identical to the Memphis, TN, appropriated fund FWS wage schedule.

The Vicksburg District of the Mississippi Valley Division is comprised of the following four lakes:

Lakes | County | Wage area
Arkabutla Lake | Tate County, MS | Memphis, TN.
Enid Lake | Yalobusha County, MS | Northern Mississippi.
Grenada Lake | Grenada County, MS | Northern Mississippi.
Sardis Lake | Panola County, MS | Memphis, TN.

Grenada and Yalobusha Counties have been defined to the area of application of the Northern Mississippi (previously called Columbus-Aberdeen, MS) wage area since the FWS was established in 1972. In 1978, OPM redefined Tate County from the Columbus-Aberdeen area of application to the Memphis, TN, area of application. In 1996, OPM added Grenada County to the Northern Mississippi survey area. In 2011, OPM redefined Panola County from the Northern Mississippi area of application to the Memphis area of application. Panola County is the location of the District headquarters for USACE employees of the four lake projects.

At the request of the labor members of the Federal Prevailing Rate Advisory Committee (FPRAC), the Committee has reexamined the definition of Grenada and Yalobusha Counties to see if a change in their definition is warranted. During the review of this subject, the Committee heard local testimony indicating that there is considerable workforce interaction between the four lakes in the Vicksburg District and presents a unique pay situation that is detrimental to the efficient functioning of the lake projects in the District.

Regulatory Criteria Under 5 CFR 532.211

OPM considers the following regulatory criteria under 5 CFR 532.211 when defining FWS wage area boundaries:

(i) Distance, transportation facilities, and geographic features;

(ii) Commuting patterns; and

(iii) Similarities in overall population, employment, and the kinds and sizes of private industrial establishments.

Except for the transportation facilities and geographic features criteria, the analysis of the regulatory criteria for Grenada and Yalobusha Counties favors the Northern Mississippi wage area.

Based on this analysis, OPM has determined that Grenada and Yalobusha Counties are appropriately defined to the Northern Mississippi wage area.

Special Wage Schedules

Because there exists a unique situation in the Vicksburg District to the point that all four lakes may be considered to be managed as one installation, FPRAC recommended by majority vote that DOD establish and issue special wage schedules for USACE employees whose duty station is located in one of the lakes that comprise the Vicksburg District of the Mississippi Valley Division. OPM is proposing to create a special wage schedule practice in this unique circumstance as recommended by FPRAC. The special wage schedules would be established using rates identical to the Memphis appropriated fund FWS wage schedule.

These special wage schedules would apply on the first day of the first applicable pay period beginning on or after 60 days following publication of the final regulations. USACE employees with duty stations in one of the lakes of the Vicksburg District would transfer to the new special wage schedules on a step-by-step basis. No current employee will have his or her pay rate reduced as a result of implementing these new special wage schedules.

Regulatory Flexibility Act

I certify that these regulations would not have a significant economic impact on a substantial number of small entities because they would affect only Federal agencies and employees.

Executive Order 13563 and Executive Order 12866

This proposed rule has been reviewed by the Office of Management and Budget in accordance with Executive Order 13563 and Executive Order 12866.

List of Subjects in 5 CFR Part 532

Administrative practice and procedure, Freedom of information, Government employees, Reporting and recordkeeping requirements, Wages.

U.S. Office of Personnel Management.
Katherine Archuleta,
Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

2. Subpart B is amended by adding § 532.289 to read as follows:

§ 532.289 Special Wage Schedules for U.S. Army Corps of Engineers Flood Control Employees of the Vicksburg District in Mississippi.

(a)(1) The Department of Defense will establish special wage schedules for wage employees of the U.S. Army Corps of Engineers who work at flood control dams (also known as reservoir projects) and whose duty station is located in one of the lakes that comprise the Vicksburg District of the Mississippi Valley Division.

(2) These special wage schedules will provide rates of pay for nonsupervisory, leader, and supervisory employees. These special schedule positions will be identified by pay plan codes XR (nonsupervisory), XT (leader), and XU (supervisory).

(b) The Vicksburg District of the Mississippi Valley Division is comprised of the following four lakes:

(1) Grenada Lake in Grenada County, MS

(2) Enid Lake in Yalobusha County, MS

(3) Sardis Lake in Panola County, MS

(4) Arkabutla Lake in Tate County, MS

(c) Special wage schedules shall be established at the same time and with rates identical to the Memphis, TN, appropriated fund wage schedule.

[FR Doc. 2015-13778 Filed 6-4-15; 8:45 am]

BILLING CODE 6325-39-P